DEPARTMENT OF DEFENSE

Department of the Army; Corps of Engineers

Notice of Availability of the Draft Environmental Impact Statement and the Announcement of a Public Hearing for the Proposed Potash Corporation of Saskatchewan Phosphate Mine Continuation Near Aurora, in Beaufort County, NC

AGENCY: Department of the Army, U.S. Army Corps of Engineers, DoD.

ACTION: Notice; extension of comment period.

SUMMARY: The comment period for the Draft Environmental Impact Statement (DEIS) for the request for Department of the Army authorization, pursuant to Section 404 of the Clean Water Act and Section 10 of the Rivers and Harbor Act, from Potash Corporation of Saskatchewan Phosphate Division (PCS) for the continuation of its phosphate mining operation near Aurora, Beaufort County, NC published in the Federal Register on Friday, October 20, 2006 (71 FR 61962), required comments be submitted by January 22, 2007. The comment period has been extended until February 9, 2007.

FOR FURTHER INFORMATION CONTACT: Tom Walker, Telephone (828) 271-7980 ext. 222.

Brenda S. Bowen,
Army Federal Register Liaison Officer.

[FR Doc. 07-282 Filed 1-23-07; 8:45 am]

BILLING CODE 3710-GN-M